DEPARTMENT OF ENERGY

Federal Energy Regulatory Commission

[ Docket No. RP04-106-000]

Southern Star Central Gas Pipeline, Inc.; Notice of Tariff Filing

December 16, 2003.

Take notice that on December 10, 2003 Southern Star Central Gas Pipeline, Inc. (Southern Star) tendered for filing as part of its FERC Gas Tariff, Original Volume No. 1, First Revised Sheet No. 510, to become effective October 1, 2003.

Southern Star states that the tariff sheet is being submitted to provide the new URL for Electronic Data Interchange that Southern Star has transitioned to since its separation from Williams Gas Pipeline Companies as well as the new contact information. Southern Star states that it completed and tested the new EDI solution in September 2003 and subsequently went live with the new EDI environment on October 1, 2003 and requests an October 1, 2003 effective date for the tariff sheet listed above.

Southern Star states that copies of the tariff sheets are being mailed to Southern Star's jurisdictional customers and interested state commissions.

Any person desiring to be heard or to protest said filing should file a motion to intervene or a protest with the Federal Energy Regulatory Commission, 888 First Street NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link.

Magalie R. Salas,
Secretary.

[FR Doc. E3-00628 Filed 12-23-03; 8:45 am]

BILLING CODE 6717-01-P